NATIONAL SCIENCE FOUNDATION

Proposal Review Panel for Physics; Notice of Meeting

In accordance with the Federal Advisory Committee Act (Pub. L. 92-463, as amended), the National Science Foundation (NSF) announces the following meeting:

Name and Committee Code: Proposal Review Panel for Division of Physics (1208)—Joint Institute for Laboratory Astrophysics (JILA) (Virtual).

Date and Time: December 14, 2020 8:30 a.m.-4:40 p.m.

December 15, 2020 9:00 a.m.-4:00 p.m.

December 16, 2020 9:00 a.m.-1:00 p.m.

Place: University of Colorado-Boulder, 440 UCB, Boulder, CO 80309 (Virtual).

Type of Meeting: Part-open.

Contact Persons: James Shank, Program Director for Physics Frontier Centers, Division of Physics, National Science Foundation, 2415 Eisenhower Avenue, Room W9214, Alexandria, VA 22314; Telephone: (703) 292-4516.

Purpose of Meeting: Virtual site visit to provide an evaluation of the progress of the projects at the host site for the Division of Physics at the National Science Foundation.

Agenda

December 14, 2020; 8:30 a.m.-4:40 p.m.

08:30 a.m.-10:15 a.m. Directors Overview & Science Talks—Session 1

10:15 a.m.-11:15 a.m. Lunch

11:15 a.m.-02:40 p.m. Science Talks—Session 2

02:40 p.m.-03:40 p.m. Executive Session (CLOSED)

Questions delivered to PIs

03:40 p.m.-04:40 p.m. Poster Session

December 15, 2020; 9:00 a.m.-4:00 p.m.

09:00 a.m.-11:00 a.m. Education/Outreach/Diversity

11:00 a.m.-12:00 p.m. Lunch

12:00 p.m.-12:30 p.m. University Administrators

12:30 p.m.-01:30 p.m. Directors Conclusion and Plans for Coming Year

02:00 p.m.-03:30 p.m. Executive Session (CLOSED)

03:30 p.m.-04:00 p.m. Questions delivered to PIs

December 16, 2020; 9:00 a.m.-1:00 p.m.

09:00 a.m.-10:00 a.m. Responses to Questions

10:00 a.m.-01:00 p.m. Panel Discussion of Report

Reason for Closing: Topics to be discussed and evaluated during closed portions of the virtual site review will include information of a proprietary or confidential nature, including technical information and information on personnel. These matters are exempt under 5 U.S.C. 552b(c), (4) and (6) of the Government in the Sunshine Act.

Dated: November 12, 2020.
Crystal Robinson,
Committee Management Officer.

[FR Doc. 2020-25318 Filed 11-16-20; 8:45 am]

BILLING CODE 7555-01-P